DEPARTMENT OF COMMERCE

National Oceanic and Atmospheric Administration

RIN 0648-XF087

Gulf of Mexico Fishery Management Council; Public Meeting

AGENCY: National Marine Fisheries Service (NMFS), National Oceanic and Atmospheric Administration (NOAA), Commerce.

ACTION: Notice of a webinar meeting.

SUMMARY: The Gulf of Mexico Fishery Management Council will hold a meeting of its Pulley Ridge Working Group via webinar.

DATES: The webinar will convene on Wednesday, January 4, 2017, 10 a.m. to 12 p.m. EST.

ADDRESSES: The meeting will take place via webinar.

Council address: Gulf of Mexico Fishery Management Council, 2203 N. Lois Avenue, Suite 1100, Tampa, FL 33607; telephone: (813) 348-1630.

FOR FURTHER INFORMATION CONTACT: Dr. Morgan Kilgour, Fishery Biologist, Gulf of Mexico Fishery Management Council; morgan.kilgour@gulfcouncil.org, telephone: (813) 348-1630.

SUPPLEMENTARY INFORMATION:

Wednesday, January 4, 2017; 10 a.m.-12 p.m., EST:

Agenda: The working group will discuss available information about Pulley Ridge and potential boundary modifications to the existing habitat area of particular concern.

—Meeting Adjourns—

You may register for Pulley Ridge Working Group webinar on January 4, 2017 at: https://attendee.gotowebinar.com/register/3018060841235901185.

The Agenda is subject to change, and the latest version along with other meeting materials will be posted on the Council's file server. To access the file server, the URL is https://public.gulfcouncil.org:5001/webman/index.cgi or go to the Council's Web site and click on the FTP link in the lower left of the Council Web site (http://www.gulfcouncil.org). The username and password are both “gulfguest”. Click on the “Library Folder” then scroll down to “Pulley Ridge Working Group Jan 2017”.

The meeting will be webcast over the internet. A link to the webcast will be available on the Council's Web site, http://www.gulfcouncil.org.

Although other non-emergency issues not on the agenda may come before the Working Group for discussion, in accordance with the Magnuson-Stevens Fishery Conservation and Management Act, those issues may not be the subject of formal action during this meeting. Actions of the Working Group will be restricted to those issues specifically identified in the agenda and any issues arising after publication of this notice that require emergency action under Section 305(c) of the Magnuson-Stevens Fishery Conservation and Management Act, provided the public has been notified of the Council's intent to take action to address the emergency.

Dated: December 14, 2016.
Tracey L. Thompson,
Acting Deputy Director, Office of Sustainable Fisheries, National Marine Fisheries Service.

[FR Doc. 2016-30500 Filed 12-19-16; 8:45 am]

BILLING CODE 3510-22-P